DEPARTMENT OF COMMERCE

National Oceanic and Atmospheric Administration

50 CFR Part 679

[Docket No. 220223-0054; RTID 0648-XC635]

Fisheries of the Exclusive Economic Zone Off Alaska; Inseason Adjustment to the 2023 Bering Sea and Aleutian Islands Pollock, Atka Mackerel, and Pacific Cod Total Allowable Catch Amounts

Correction

In rule document 2022-28343 appearing on pages 80090-80094 in the issue of December 29, 2022, make the following corrections:

1. On page 80093, in Table 9, in the first column, in the 13th and 14th lines down, “Hook-and-line catcher vessel ≤60 ft LOA” should read, “Hook-and-line catcher vessel ≥60 ft LOA”.

2. On the same page, in the same table, in the same column, in the 16th line down, “Pot catcher vessel ≤60 ft LOA” should read, “Pot catcher vessel ≥60 ft LOA”.

[FR Doc. C1-2022-28343 Filed 1-4-23; 8:45 am]

BILLING CODE 0099-10-P